DEPARTMENT OF ENERGY

Federal Energy Regulatory Commission

[Project No. 15333-000]

Gravity Storage, LLC; Notice of Preliminary Permit Application Accepted for Filing and Soliciting Comments, Motions To Intervene, and Competing Applications

On November 16, 2023, Gravity Storage, LLC filed an application for a preliminary permit, pursuant to section 4(f) of the Federal Power Act (FPA), proposing to study the feasibility of Red Lake Pumped Storage Project (project) to be located in Mojave county, Arizona. The proposed closed-loop pumped storage project would occupy federal land managed by the Bureau of Land Management. The sole purpose of a preliminary permit, if issued, is to grant the permit holder priority to file a license application during the permit term. A preliminary permit does not authorize the permit holder to perform any land-disturbing activities or otherwise enter upon lands or waters owned by others without the owners' express permission.

The proposed project would consist of the following new facilities: (1) a 3,740-foot-long, 200-foot-high rockfill concrete (upper dam 1) and a 3,000-foot-long, 60-foot-high rockfill concrete (upper dam 2), both of which would impound a new 275-acre upper reservoir with a a total storage capacity of 26,000 acre-feet at a normal maximum operating elevation of 5,700 feet average above mean sea level (msl); (2) a 4,240-foot-long, 160-foot-high rockfill concrete lower dam that would impound a new 273-acre lower reservoir with a a total storage capacity of 26,000 acre-feet at a normal maximum operating elevation of 3,400 feet msl; (3) three 15,400-foot-long, 36-foot-diameter reinforced concrete branch penstocks; (4) six 330-foot-long, 25-foot-diameter steel turbine penstocks; (5) a 1,200-foot-long, 150-foot-wide and 160-foot-high reinforced concrete powerhouse containing six turbine-generator units 500 megawatts each with a total rated capacity of 3,000 megawatts; (6) a 3,100-foot-long reinforced concrete tailrace; (7) a new 6-mile-long, 500-kilovolt transmission line connecting the powerhouse to the existing Western Area Power Administration substation; and (8) appurtenant facilities. The estimated annual power generation at the project would be 13,140 gigawatt-hours.

Applicant Contact: Mr. Dave E. Drips, Manager, Gravity Storage, LLC 10958 E Cordova Street Gold Canyon, AZ 85118 Dedrips@msn.com.

FERC Contact: Ousmane Sidibe; ousmane.sidibe@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15333-000.

More information about this project, including a copy of the application, can be viewed or printed on the “eLibrary” link of Commission's website at https://elibrary.ferc.gov/eLibrary/search. Enter the docket number (P-15333) in the docket number field to access the document. For assistance, contact FERC Online Support.

Dated: June 12, 2024.
Debbie-Anne A. Reese,
Acting Secretary.

[FR Doc. 2024-13394 Filed 6-17-24; 8:45 am]

BILLING CODE 6717-01-P